DEPARTMENT OF THE INTERIOR

Fish and Wildlife Service

Information Collection Renewal To Be Submitted to the Office of Management and Budget for Approval Under the Paperwork Reduction Act; NEPA Compliance Checklist

AGENCY: Fish and Wildlife Service, Interior.

ACTION: Notice; request for comments.

SUMMARY: The U.S. Fish and Wildlife Service (We) will submit the collection of information described below to the Office of Management and Budget (OMB) for approval under the provisions of the Paperwork Reduction Act of 1995. You may obtain copies of the collection requirement, related forms, or explanatory material by contacting the person listed below under FOR FURTHER INFORMATION CONTACT.

DATES: Interested parties must submit comments on or before January 20, 2004.

ADDRESSES: Interested parties should send comments on the information collection by mail to Information Collection Officer, U.S. Fish and Wildlife Service, 4401 North Fairfax Drive, Suite 222, Arlington, VA 22203; by fax to (703) 358-2269; or by e-mail to Anissa_Craghead@fws.gov.

FOR FURTHER INFORMATION CONTACT: Kim Galvan, voice (703) 358-2420, fax (703) 358-1837, or e-mail kgalvan@fws.gov.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). An agency may not conduct or sponsor, and a person is not required to respond to, a collection of information unless it displays a currently valid OMB control number.

We will submit a request to OMB to renew its approval of the collection of information associated with the NEPA Compliance Checklist. The Service administers several grant programs authorized by the Federal Aid in Wildlife Restoration Act (16 U.S.C. 669-669i), the Federal Aid in Sport Fish Restoration Act (16 U.S.C. 777-777l), the Anadromous Fish Conservation Act (16 U.S.C. 757a-757g), the Endangered Species Act (16 U.S.C. 1531 et seq.), the Clean Vessel Act (33 U.S.C. 1322, 16 U.S.C. 777c), the Sportfishing and Boating Safety Act (16 U.S.C. 777g-l), North American Wetlands Conservation Act (16 U.S.C. 4401-4412), the Coastal Wetlands Planning, Protection and Restoration Act (16 U.S.C. 3951 et seq.), and through other Acts and authorities. The Service uses the information collected on the NEPA Compliance Checklist to determine whether a grantee complies with the National Environmental Policy Act (NEPA) (42 U.S.C. 4321-4347, 40 CFR 1500-1508). The State or other grantee uses the checklist as a guide to general NEPA requirements, and the checklist becomes an administrative record to meet their assurances requirements for receiving a grant.

Certain grant applicants must provide the information requested on the NEPA Compliance Checklist in order to qualify to receive benefits in the form of grants for purposes outlined in the applicable law. This form is designed to cause the minimum impact in the form of hourly burden on respondents and still obtain all necessary information. Only about 3 percent of the Service's applicants for either a new grant or for an amendment to an existing grant will meet the criteria and need to complete the NEPA Compliance Checklist. The checklist needs to be prepared when (a) The proposed action is not completely covered by a categorical exclusion (e.g., the proposal cannot meet the qualifying criteria in the categorical exclusion, and “is not” will be checked on the Checklist); (b) The proposed action cannot be categorically excluded because an exception to the categorical exclusion applies (e.g., a “Yes” will be checked on the Checklist); (c) Environmental conditions at or in the vicinity of the site have materially changed, affecting the consideration of alternatives and impacts (applicable to amendments and renewals); (d) There is a need to document a normally categorically excluded action that may be controversial; or (e) Additional internal review and/or documentation of the NEPA administrative record are desirable.

The current OMB control number for this information collection is 1018-0110, and the OMB approval for this collection expires on March 31, 2004. We are requesting a three year term of approval for this information collection activity.

Title: NEPA Compliance Checklist.

OMB Control Number: 1018-0110.

Frequency of Collection: Annually.

Description of Respondents: The 50 U.S. States, the Commonwealth of Puerto Rico, the District of Columbia, the Commonwealth of the Northern Mariana Islands, Guam, the Virgin Islands, American Samoa, Indian Tribal Governments, local governments, and others receiving grant funds.

Annual Burden Estimates:

Name | Completion time (per checklist) | Annual number of responses | Total annual burden hours
Checklist | ½ hour | 160 | 80

We invite comments on: (1) Whether the collection of information is necessary for the proper performance of the functions of the agency, including whether the information will have practical utility; (2) the accuracy of the agency's estimates of burden of the collection of information; (3) ways to enhance the quality, utility, and clarity of the information to be collected; and (4) ways to minimize the burden of collection of information on respondents, including through the use of appropriate automated, electronic, mechanical, or other technological collection techniques or other forms of information technology.

Dated: November 7, 2003.
Anissa Craghead,
Service Information Collection Officer.

[FR Doc. 03-28689 Filed 11-17-03; 8:45 am]

BILLING CODE 4310-55-P